DEPARTMENT OF COMMERCE

International Trade Administration

[A-570-909]

Certain Steel Nails From the People's Republic of China: Amended Final Results of the Second Antidumping Duty Administrative Review

AGENCY: Import Administration, International Trade Administration, Department of Commerce.

DATES: Effective Date: April 24, 2012.

FOR FURTHER INFORMATION CONTACT: Ricardo Martinez Rivera, AD/CVD Operations, Office 9, Import Administration, International Trade Administration, Department of Commerce, 14th Street and Constitution Avenue NW., Washington, DC 20230; telephone: (202) 482-4532.

SUPPLEMENTARY INFORMATION:

Background

On March 1, 2012, the Department of Commerce (“Department”) published the final results of the second administrative review of the antidumping duty order on certain steel nails (“steel nails”) from the People's Republic of China (“PRC”).¹ On March 5, 2012, certain mandatory and separate rate respondents, as well as Itochu Building Products Co., Inc. (“IBP”),² and Stanley ³ filed timely allegations that the Department made ministerial errors in the Final Results and requested, pursuant to 19 CFR 351.224, that the Department correct the alleged ministerial errors. On March 12, 2012, Petitioner ⁴ submitted comments rebutting the errors alleged by IBP et al. and Stanley. No other party in this proceeding submitted comments on the Department's final margin calculations.

¹ See Certain Steel Nails from the People's Republic of China: Final Results and Final Rescission of the Second Antidumping Duty Administrative Review, 77 FR 12556 (March 1, 2012) and accompanying Issues and Decision Memorandum (“Final Results”).

² Certified Products International Inc., Chiieh Yungs Metal Ind. Corp., Huanghua Jinhai Hardware Products Co., Ltd., Tianjin Jinghai County Hongli Industry & Business Co., Ltd. (“Hongli”), Tianjin Jinchi Metal Products Co., Ltd. (“Jinchi”), Shangdong Dinglong Import & Export Co., Ltd., Tianjin Zhonglian Metals Ware Co., Ltd., Hengshui Mingyao Hardware & Mesh Products Co., Ltd., Huanghua Xionghua Hardware Products, Shanghai Jade Shuttle Hardware Tools Co., Ltd., Shanghai Yueda Nails Industry Co., Ltd., Shanxi Tianli Industries Co., Ltd., China Staple Enterprise (Tianjin) Co., Ltd., Qidong Liang Chyuan Metal Industry Co., Ltd., Romp (Tianjin) Hardware Co., Ltd., CYM (Nanjing) Ningquan Nail Manufacture Co., Ltd. a.k.a. CYM (Nanjing), Nail Manufacture Co., Ltd., Shanxi Pioneer Hardware Industrial Co., Ltd., and Mingguang Abundant Hardware Productions Co., Ltd. (collectively “IBP et al.”).

³ The Stanley Works (Langfang) Fastening Systems Co., Ltd. and Stanley Black & Decker, Inc./Stanley Fastening Systems, LP (collectively “Stanley”).

⁴ Mid Continent Nail Corporation.

Scope of the Order

The merchandise covered by the order includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot dipping one or more times), phosphate cement, and paint. Head styles include, but are not limited to, flat, projection, cupped, oval, brad, headless, double, countersunk, and sinker. Shank styles include, but are not limited to, smooth, barbed, screw threaded, ring shank and fluted shank styles. Screw-threaded nails subject to the order are driven using direct force and not by turning the fastener using a tool that engages with the head. Point styles include, but are not limited to, diamond, blunt, needle, chisel and no point. Finished nails may be sold in bulk, or they may be collated into strips or coils using materials such as plastic, paper, or wire. Certain steel nails subject to the order are currently classified under the Harmonized Tariff Schedule of the United States (“HTSUS”) subheadings 7317.00.55, 7317.00.65 and 7317.00.75.

Excluded from the scope of the order are steel roofing nails of all lengths and diameter, whether collated or in bulk, and whether or not galvanized. Steel roofing nails are specifically enumerated and identified in ASTM Standard F 1667 (2005 revision) as Type I, Style 20 nails. Also excluded from the scope are the following steel nails: (1) Non-collated (i.e., hand-driven or bulk), two-piece steel nails having plastic or steel washers (caps) already assembled to the nail, having a bright or galvanized finish, a ring, fluted or spiral shank, an actual length of 0.500″ to 8″, inclusive; and an actual shank diameter of 0.1015″ to 0.166″, inclusive; and an actual washer or cap diameter of 0.900″ to 1.10″, inclusive; (2) Non-collated (i.e., hand-driven or bulk), steel nails having a bright or galvanized finish, a smooth, barbed or ringed shank, an actual length of 0.500″ to 4″, inclusive; an actual shank diameter of 0.1015″ to 0.166″, inclusive; and an actual head diameter of 0.3375″ to 0.500″, inclusive; (3) Wire collated steel nails, in coils, having a galvanized finish, a smooth, barbed or ringed shank, an actual length of 0.500″ to 1.75″, inclusive; an actual shank diameter of 0.116″ to 0.166″, inclusive; and an actual head diameter of 0.3375″ to 0.500″, inclusive; and (4) Non-collated (i.e., hand-driven or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive.

Also excluded from the scope of the order are corrugated nails. A corrugated nail is made of a small strip of corrugated steel with sharp points on one side. Also excluded from the scope of the order are fasteners suitable for use in powder-actuated hand tools, not threaded and threaded, which are currently classified under HTSUS 7317.00.20 and 7317.00.30. Also excluded from the scope of the order are thumb tacks, which are currently classified under HTSUS 7317.00.10.00.

Also excluded from the scope of the order are certain brads and finish nails that are equal to or less than 0.0720 inches in shank diameter, round or rectangular in cross section, between 0.375 inches and 2.5 inches in length, and that are collated with adhesive or polyester film tape backed with a heat seal adhesive. Also excluded from the scope of the order are fasteners having a case hardness greater than or equal to 50 HRC, a carbon content greater than or equal to 0.5 percent, a round head, a secondary reduced-diameter raised head section, a centered shank, and a smooth symmetrical point, suitable for use in gas-actuated hand tools. While the HTSUS subheadings are provided for convenience and customs purposes, the written description of the scope of the order is dispositive.

Amended Final Results of the Review

The Tariff Act of 1930, as amended (“Act”), defines a “ministerial error” as including “errors in addition, subtraction, or other arithmetic function, clerical errors resulting from inaccurate copying, duplication, or the like, and any other type of unintentional error which the administering authority considers ministerial.” See section 751(h) of the Act; see also 19 CFR 351.224(e). As explained in the memorandum accompanying this notice,⁵ we do not find that any of the errors alleged by IBP et al. or Stanley are ministerial errors within the meaning of section 751(h) of the Act and 19 CFR 351.224(e). However, in the course of analyzing IBP et al.'s allegations of ministerial errors, the Department found that it inadvertently miscalculated Jinchi's importer-specific assessments rates, even though no party had commented on this fact. Therefore, in accordance with section 751(h) of the Act, we have determined that we made a ministerial error in our calculation of Jinchi's importer-specific assessment rates for the Final Results. We note that correcting this error does not change any of the weighted-average margins from the Final Results. For a detailed discussion of this ministerial error, as well as the Department's analysis of the allegations of ministerial errors, see the Ministerial Error Memorandum.

⁵ See Memorandum to Gary Taverman, from James C. Doyle, regarding “Second Antidumping Duty Administrative Review of Certain Steel Nails from the People's Republic of China: Ministerial Error Allegations Memorandum,” dated concurrently with this notice (“Ministerial Error Memorandum”).

Disclosure

We will disclose the calculations performed for these amended final results within five days of the date of publication of this notice to interested parties in accordance with 19 CFR 351.224(b).

Amended Final Results of the Review

The weighted-average dumping margins for the period of review are as follows:

Exporter | Weighted average margin (percent)
(1) The Stanley Works (Langfang) Fastening Systems Co., Ltd. and Stanley Black & Decker, Inc./Stanley Fastening Systems, LP | 3.80
(2) Tianjin Jinghai County Hongli Industry & Business Co | 47.76
(3) Tianjin Jinchi Metal Products Co., Ltd | 78.27
(4) Dezhou Hualude Hardware Products Co., Ltd | 19.30
(5) Hengshui Mingyao Hardware & Mesh Products Co., Ltd | 19.30
(6) Huanghua Jinhai Hardware Products Co., Ltd | 19.30
(7) Huanghua Xionghua Hardware Products Co., Ltd | 19.30
(8) Koram Panagene Co., Ltd | 19.30
(9) Qingdao D & L Group Ltd.Co., Ltd | 19.30
(10) Romp (Tianjin) Hardware Co., Ltd | 19.30
(11) Shandong Dinglong Import & Export Co., Ltd | 19.30
(12) Shanghai Curvet Hardware Products Co., Ltd | 19.30
(13) Shanghai Jade Shuttle Hardware Tools Co., Ltd | 19.30
(14) Shanghai Yueda Nails Industry Co., Ltd | 19.30
(15) Shanxi Tianli Industries Co., Ltd | 19.30
(16) Tianjin Lianda Group Co., Ltd | 19.30
(17) Tianjin Universal Machinery Imp & Exp Corporation | 19.30
(18) Tianjin Zhonglian Metals Ware Co., Ltd | 19.30
(19) PRC-wide Entity | 118.04

Those companies not eligible for a separate rate will be considered part of the PRC-wide entity.⁶

⁶ These companies include: (1) Aironware (Shanghai) Co., Ltd.; (2) Beijing Daruixing Global Trading Co., Ltd.; (3) Beijing Daruixing Nail Products Co., Ltd.; (4) Beijing Hong Sheng Metal Products Co., Ltd.; (5) Beijing Tri-Metal Co., Ltd.; (6) China Silk Trading & Logistics Co., Ltd.; (7) Chongqing Hybest Tools Group Co., Ltd.; (8) Faithful Engineering Products Co., Ltd.; (9) Handuk Industrial Co., Ltd.; (10) Hong Kong Yu Xi Co., Ltd.; (11) Huanghua Huarong Hardware Products Co., Ltd.; (12) Jinding Metal Products Ltd.; (13) Kyung Dong Corp.; (14) Nanjing Dayu Pneumatic Gun Nails Co., Ltd.; (15) Rizhao Handuck Fasteners Co., Ltd.; (16) Senco-Xingya Metal Products(Taicang) Co., Ltd.; (17) Shandong Minmetals Co., Ltd.; (18) Shanghai Chengkai Hardware Product Co., Ltd.; (19) Shanghai Seti Enterprise International Co., Ltd.; (20) Shanxi Tianli Enterprise Co., Ltd.; (21) Shouguang Meiqing Nail Industry Co., Ltd.; (22) Sinochem Tianjin Imp & Exp Shenzhen Corp.; (23) Superior International Australia Pty Ltd.; (24) Suzhou Xingya Nail Co., Ltd.; (25) Tianjin Jurun Metal Products Co., Ltd.; (26) Wintime Import & Export Corporation Limited of Zhongshan; (27) Wuxi Qiangye Metalwork Production Co., Ltd.; (28) Xuzhou CIP International Group Co., Ltd.; (29) Yitian Nanjing Hardware Co., Ltd.; and (30) Zhongshan Junlong Nail Manufactures Co., Ltd.

Assessment Rates

Pursuant to section 751(a)(2)(A) of the Act and 19 CFR 351.212(b), the Department will determine, and U.S. Customs and Border Protection (“CBP”) shall assess, antidumping duties on all appropriate entries of subject merchandise in accordance with the amended final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). The Department intends to issue assessment instructions to CBP 15 days after the date of publication of these amended final results of review.

Cash Deposit Requirements

The following cash deposit requirements will be effective upon publication of the amended final results of this administrative review for all shipments of the subject merchandise from the PRC entered, or withdrawn from warehouse, for consumption on or after the publication date, as provided by section 751(a)(2)(C) of the Act: (1) For Stanley, Hongli, Jinchi, and the Separate Rate Applicants, the cash deposit rate will be their respective rates established in the amended final results of this review, except if the rate is zero or de minimis no cash deposit will be required; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 118.04 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

These amended final results are published in accordance with sections 751(h) and 777(i)(1) of the Act.

Dated: April 18, 2012.
Paul Piquado,
Assistant Secretary for Import Administration.

[FR Doc. 2012-9827 Filed 4-23-12; 8:45 am]

BILLING CODE 3510-DS-P